DEPARTMENT OF AGRICULTURE

Forest Service

Northwest Sacramento Provincial Advisory Committee (SAC PAC)

AGENCY: Forest Service, USDA.

ACTION: Notice of meeting.

SUMMARY: The Northwest Sacramento Provincial Advisory Committee (PAC) will meet on July 29, 2004, at Redding, California. The purpose of the meeting is to discuss issues relating to implementing the Northwest Forest Plan.

DATES: The meeting will be held on July 29, 2004.

Location: The meeting will be held in the Trinity Conference Room at the USDA Service Center at 3644 Avtech Parkway, Redding, CA.

FOR FURTHER INFORMATION CONTACT: Julie Nelson, Committee Coordinator, USDA, Shasta-Trinity National Forest, 3644 Avtech Parkway, Redding, CA, 96002 (530) 226-2429; or by e-mail: jknelson@fs.fed.us.

SUPPLEMENTARY INFORMATION: The meeting is open to the public. Opportunity will be provided for public input and individuals will have the opportunity to address the Committee at that time.

Dated: June 18, 2004.
J. Sharon Heywood,
Forest Supervisor.

[FR Doc. 04-14565 Filed 6-25-04; 8:45 am]

BILLING CODE 3410-FK-M